DEPARTMENT OF COMMERCE

International Trade Administration

[A-570-831]

Fresh Garlic From the People's Republic of China: Initiation of New Shipper Review

AGENCY: Import Administration, International Trade Administration, Department of Commerce.

SUMMARY: The Department of Commerce (the “Department”) has determined that a request for a new shipper review of the antidumping duty order on fresh garlic from the People's Republic of China (“PRC”), received on May 21, 2009, meets the statutory and regulatory requirements for initiation. The period of review (“POR”) of this new shipper review is November 1, 2008 through April 30, 2009.

DATES: Effective Date: June 30, 2009.

FOR FURTHER INFORMATION CONTACT: Martha Douthit, AD/CVD Operations, Office 6, Import Administration, International Trade Administration, U.S. Department of Commerce, 14th Street and Constitution Avenue, NW., Washington, DC 20230; telephone: (202) 482-5050.

SUPPLEMENTARY INFORMATION:

Background

The notice announcing the antidumping duty order on fresh garlic from the PRC was published on November 16, 1994. See Antidumping Duty Order: Fresh Garlic from the People's Republic of China, 59 FR 59209 (November 16, 1994) (“Order”). On May 21, 2009, we received a timely request for a new shipper review from Qingdao Sea-line International Trading Co., Ltd. (“Sea-line”) in accordance with 19 CFR 351.214(c) and 351.214(d)(2). Sea-line has certified that it is the exporter of all of the fresh garlic it exported to the United States, which is the basis for its request for a new shipper review.

Pursuant to the requirements set forth in 19 CFR 351.214(b)(2)(ii), in its request for a new shipper review, Sea-line, as an exporter, certified that (1) It did not export fresh garlic to the United States during the period of investigation (“POI”); (2) since the initiation of the investigation, it has never been affiliated with any company that exported subject merchandise to the United States during the POI, including any exporter or producer not individually examined during the investigation; and (3) its export activities are not controlled by the central government of the PRC. In addition, Jinxiang County Juxinyuan Trading Co., Ltd. (“Juxinyuan Trading”), the producer of the subject merchandise, certified that it did not export the subject merchandise to the United States during the POI. In addition, pursuant to section 751(a)(2)(B)(i)(II) of the Act and 19 CFR 351.214(b)(2)(iii)(A), Sea-line certified that, since the initiation of the investigation, it has never been affiliated with any Chinese exporter or producer who exported steel nails to the United States during the POI, including those not individually examined during the investigation has not been affiliated with . In accordance with 19 CFR 351.214(b)(2)(iv), Sea-line submitted documentation establishing the following: (1) The date on which it first shipped fresh garlic for export to the United States and the date on which fresh garlic were first entered, or withdrawn from warehouse, for consumption; (2) the volume of its first shipment; and (3) the date of its first sale to an unaffiliated customer in the United States.

Initiation of New Shipper Review

Pursuant to section 751(a)(2)(B) of the Tariff Act of 1930, as amended (the “Act”) and 19 CFR 351.214(d)(1), we find that the request submitted by Sea-line meets the threshold requirements for initiation of a new shipper review for shipments of fresh garlic from the PRC, exported by Sea-line and produced by Juxinyuan Trading. See Memorandum to the File through Barbara E. Tillman, Director, AD/CVD Operations, Office 6, Fresh Garlic from the People's Republic of China: Initiation of Antidumping New Shipper Review, dated concurrently with this notice. See 19 CFR 351.214(g)(1)(i)(B).

The Department will conduct this review according to the deadlines set forth in section 751(a)(2)(B)(iv) of the Act. It is the Department's usual practice, in cases involving non-market economies, to require that a company seeking to establish eligibility for an antidumping duty rate separate from the country-wide rate provide evidence of de jure and de facto absence of government control over the company's export activities. Accordingly, we will issue a questionnaire to Sea-line, which will include a separate rate section. The review will proceed if the response provides sufficient indication that Sea-line is not subject to either de jure or de facto government control with respect to its export of fresh garlic.

On August 17, 2006, the Pension Protection Act of 2006, Public Law 109-280, (“H.R. 4”), was signed into law. Section 1632 of H.R. 4 temporarily suspended the authority of the Department to instruct U.S. Customs and Border Protection to collect a bond or other security in lieu of a cash deposit in new shipper reviews initiated during the period April 1, 2006 through June 30, 2009. Therefore, the posting of a bond or other security under section 751(a)(2)(B)(iii) of the Act in lieu of a cash deposit is not available in this case. Importers of fresh garlic, exported by Sea-line, must continue to post a cash deposit of estimated antidumping duties on each entry of subject merchandise at the per unit PRC-wide rate.

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: June 24, 2009.
John M. Andersen,
Acting Deputy Assistant Secretary for Antidumping and Countervailing Duty Operations.

[FR Doc. E9-15459 Filed 6-29-09; 8:45 am]

BILLING CODE 3510-DS-P